DEPARTMENT OF COMMERCE

National Oceanic and Atmospheric Administration

RIN 0648-XF638

Mid-Atlantic Fishery Management Council (MAFMC); Meeting

AGENCY: National Marine Fisheries Service (NMFS), National Oceanic and Atmospheric Administration (NOAA), Commerce.

ACTION: Notice; public meeting.

SUMMARY: The Mid-Atlantic Fishery Management Council's (MAFMC) Ecosystem and Ocean Planning Committee and Advisory Panel (AP) will hold a public meeting.

DATES: The meeting will be held on Tuesday, September 12, 2017 from 9 a.m. to 5 p.m. For agenda details, see SUPPLEMENTARY INFORMATION.

ADDRESSES: The meeting will be held at the Lord Baltimore Hotel, 20 W. Baltimore St., Baltimore, MD 21202; telephone: (410) 659-3096.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The purpose of the meeting is to identify the final list of risk elements to be evaluated by the Council as part of its Ecosystem Approach to Fisheries Management. In addition, the EOP Committee and Advisors will provide initial rankings of the risk elements that will be communicated to the full Council at its October meeting in Riverhead, NY. Once adopted, the prioritized risk matrix will be used by the Council to inform its future work and scientific research plans.

Special Accommodations

These meetings are physically accessible to people with disabilities. Requests for sign language interpretation or other auxiliary aid should be directed to M. Jan Saunders, (302) 526-5251, at least 5 days prior to the meeting date.

Dated: August 22, 2017.
Tracey L. Thompson,
Acting Deputy Director, Office of Sustainable Fisheries, National Marine Fisheries Service.

[FR Doc. 2017-18050 Filed 8-24-17; 8:45 am]

BILLING CODE 3510-22-P